DEPARTMENT OF TRANSPORTATION

Federal Railroad Administration

Railworthiness Directive for Tank Cars Owned by Sumitomo Mitsui Banking Corporation Rail Services, LLC and Equipped With Rubber Linings Owned by Sumitomo Mitsui Banking Corporation Rail Services, LLC; RWD No. 2023-01

AGENCY: Federal Railroad Administration (FRA), Department of Transportation (DOT).

ACTION: Notice of issuance and availability of railworthiness directive.

SUMMARY: On July 19, 2023, FRA issued a Railworthiness Directive (Directive or RWD) to Sumitomo Mitsui Banking Corporation Rail Services, LLC (SMBC). This document announces FRA's issuance of the RWD, RWD No. 2023-01, and its availability on FRA's website.

FOR FURTHER INFORMATION CONTACT: Randy Keltz, Manager of Tank Car Safety Programs, Motive Power & Equipment Division, Office of Railroad Infrastructure & Mechanical, telephone: (202) 236-7460, email: Randy.Keltz@dot.gov.

SUPPLEMENTARY INFORMATION: FRA issued this Directive, RWD No. 2023-01, under 49 CFR 180.509(b)(4) to SMBC based on its finding that as a result of non-conforming qualification practices, SMBC-owned DOT-111 tank cars, equipped with SMBC-owned rubber linings, may be in an unsafe operating condition that could result in the release of hazardous materials into the environment. As a result of the identified non-conforming qualification practices, these cars may have substantial rubber lining defects, potentially affecting each tank car's ability to retain its contents during transportation.

FRA issued the Directive to ensure public safety, ensure compliance with the applicable Federal regulations governing the safe movement of hazardous materials by rail, and ensure the railworthiness of the tank cars. The full text of the Directive is available on FRA's website at https://railroads.dot.gov.

Issued in Washington, DC.
John Karl Alexy,
Associate Administrator for Railroad Safety Chief Safety Officer.

[FR Doc. 2023-15723 Filed 7-24-23; 8:45 am]

BILLING CODE 4910-06-P